DEPARTMENT OF COMMERCE

Foreign-Trade Zones Board

[Order No. 1954]

Designation of New Grantee; Foreign-Trade Zone 245, Decatur, Illinois

Pursuant to its authority under the Foreign-Trade Zones Act of June 18, 1934, as amended (19 U.S.C. 81a-81u), the Foreign-Trade Zones Board (the Board) adopts the following Order:

The Foreign-Trade Zones (FTZ) Board (the Board) has considered the application (docketed 7/1/2014) submitted by the Board of Park Commissioners, Decatur Park District, grantee of FTZ 245, requesting reissuance of the grant of authority for said zone to the Economic Development Corporation of Decatur & Macon County, which has accepted such reissuance subject to approval by the FTZ Board. Upon review, the Board finds that the requirements of the FTZ Act and the Board's regulations are satisfied, and that the proposal is in the public interest.

Therefore, the Board approves the application and recognizes the Economic Development Corporation of Decatur & Macon County as the new grantee for Foreign-Trade Zone 245, subject to the FTZ Act and the Board's regulations, including Section 400.13.

Signed at Washington, DC, this 28th day of October 2014.
Ronald K. Lorentzen,
Acting Assistant Secretary of Commerce for Enforcement and Compliance, Alternate Chairman, Foreign-Trade Zones Board.

[FR Doc. 2014-26276 Filed 11-4-14; 8:45 am]

BILLING CODE 3510-DS-P